DEPARTMENT OF HEALTH AND HUMAN SERVICES

Centers for Disease Control and Prevention

[30Day-23-23BI]

Agency Forms Undergoing Paperwork Reduction Act Review

In accordance with the Paperwork Reduction Act of 1995, the Centers for Disease Control and Prevention (CDC) has submitted the information collection request titled “Research Data Center Proposal (RDC) Security Forms for Access to Confidential Data” to the Office of Management and Budget (OMB) for review and approval. CDC previously published a “Proposed Data Collection Submitted for Public Comment and Recommendations” notice on December 12, 2022 to obtain comments from the public and affected agencies. CDC did not receive any comments related to the previous notice. This notice serves to allow an additional 30 days for public and affected agency comments.

CDC will accept all comments for this proposed information collection project. The Office of Management and Budget is particularly interested in comments that:

(a) Evaluate whether the proposed collection of information is necessary for the proper performance of the functions of the agency, including whether the information will have practical utility;

(b) Evaluate the accuracy of the agencies estimate of the burden of the proposed collection of information, including the validity of the methodology and assumptions used;

(c) Enhance the quality, utility, and clarity of the information to be collected;

(d) Minimize the burden of the collection of information on those who are to respond, including, through the use of appropriate automated, electronic, mechanical, or other technological collection techniques or other forms of information technology, e.g., permitting electronic submission of responses; and

(e) Assess information collection costs.

To request additional information on the proposed project or to obtain a copy of the information collection plan and instruments, call (404) 639-7570. Comments and recommendations for the proposed information collection should be sent within 30 days of publication of this notice to www.reginfo.gov/public/do/PRAMain. Find this particular information collection by selecting “Currently under 30-day Review—Open for Public Comments” or by using the search function. Direct written comments and/or suggestions regarding the items contained in this notice to the Attention: CDC Desk Officer, Office of Management and Budget, 725 17th Street NW, Washington, DC 20503 or by fax to (202) 395-5806. Provide written comments within 30 days of notice publication.

Proposed Project

Research Data Center Data Security Forms for Access to Confidential Data for the National Center for Health Statistics—Existing Collection In Use Without OMB Approval—National Center for Health Statistics (NCHS), Centers for Disease Control and Prevention (CDC).

Background and Brief Description

Section 306(b)(4) of the Public Health Service (PHS) Act (42 U.S.C. 242k(b)(4)), as amended, authorizes the Secretary of Health and Human Services (DHHS), acting through the National Center for Health Statistics (NCHS), to receive requests for furnishing statistics to the public. NCHS receives requests for statistics from the public through the Standard Application Process (SAP). The public may apply to access confidential data assets held by a federal statistical agency or unit through the SAP for the purposes of generating statistics and developing evidence. Once an application for confidential data is approved through the SAP, NCHS will collect information to meet its data security requirements through its Data Security Forms. This information collection through the Data Security Forms will occur outside of the SAP.

As part of a comprehensive data dissemination program, the Research Data Center (RDC), National Center for Health Statistics (NCHS), Centers for Disease Control and Prevention (CDC), requires prospective researchers who need access to confidential data to complete a research proposal and to self-select whether they need access to confidential data to answer their research questions. The RDC requires the researcher to complete a research proposal, so NCHS understands the research proposed. The completed proposal is sent to NCHS through the SAP portal for review and adjudication. If the research proposal is approved by NCHS, then the researcher must fill out two of three data security forms. If the researcher will access the data at a RDC, then the “Data Access Form” and the “Designated Agent Form” would need to be completed and returned to NCHS. If the researcher will access the data through the NCHS Virtual Data Enclave (VDE), then the “VDE Data Use Agreement Form” and the “Designated Agent Form” would need to be completed and returned to NCHS.

In order to capture the information needed to adjudicate a researcher's commitment to protect confidential NCHS data, researchers must complete and sign the data security forms. This request allows for both researcher signature and the time per response for a total estimated annual burden total of 110 hours. There is no cost to a researcher other than their time to complete the forms unless the researcher has to pay a nominal notary fee for services incurred. The resulting information will be used for NCHS internal purposes.

Estimated Annualized Burden Hours
Type of respondents | Form name | Number of respondents | Number of responses per respondent | Avg. burden per response (in hrs.)
Researcher | Research Data Center proposal | 110 | 1 | 1

Jeffrey M. Zirger,
Lead, Information Collection Review Office, Office of Scientific Integrity, Office of Science, Centers for Disease Control and Prevention.

[FR Doc. 2023-04969 Filed 3-9-23; 8:45 am]

BILLING CODE 4163-18-P